ENVIRONMENTAL PROTECTION AGENCY

[FRL-7956-6]

Science Advisory Board Staff Office; Notification of an Upcoming Science Advisory Board Meeting

AGENCY: Environmental Protection Agency (EPA).

ACTION: Notice.

SUMMARY: The EPA Science Advisory Board (SAB) Staff Office announces a public teleconference of an SAB Quality Review Committee (QRC) to review and discuss the SAB Draft Advisory Report on EPA's Regional Vulnerability Assessment (ReVA) Program.

DATES: September 8, 2005. A public telephone conference of the SAB Quality Review Committee (QRC) will be held on September 8, 2005, from 1 p.m. until 3 p.m. (eastern time).

FOR FURTHER INFORMATION CONTACT: Members of the public who wish to obtain the call-in number and access code for this teleconference may contact Mr. Thomas O. Miller, Designated Federal Officer, via telephone at (202) 343-9982 or via e-mail at miller.tom@epa.gov. An agenda and the documents that are the subject of this teleconference will be posted on the SAB Web site at: http://www.epa.gov/sab. The SAB mailing address is: U.S. EPA, Science Advisory Board (1400F), 1200 Pennsylvania Avenue, NW., Washington, DC 20460.

SUPPLEMENTARY INFORMATION: The EPA Office of Research and Development requested a consultation with the SAB to review the methods and predictive tools used in ReVA, and the effectiveness of the ReVA integration toolkit (the ReVA Web-based Environmental Decision Toolkit or EDT) for communicating risk and uncertainty to clients and users. EPA's ReVA Program develops approaches to conducting comprehensive, regional-scale environmental assessments that can inform decision-makers about the magnitude, extent, distribution, and uncertainty of current and anticipated environmental vulnerabilities. In the context of ReVA, environmental vulnerabilities are risks of serious degradation of ecological goods and services that are valued by society. ReVA approaches make use of existing spatial data to depict: (1) The current patterns of condition and distribution of resources and human demographics, (2) variability in sensitivity of resources and human populations to various stresses, and (3) estimated spatial distribution of stressors. Future vulnerability estimates derived by ReVA include syntheses of: (1) Modeled estimates of ecological drivers of change (i.e. changes in pollution and pollutants, resource extraction, spread of non-indigenous species, land use change, and climate change) and resulting changes in stressor patterns; and (2) changes in resource sensitivity and projected changes in human demographics. The predictive tools in ReVA provide decision-makers with information about current and future cumulative stresses and spatially-explicit identification of anticipated environmental problems. These predictive tools can also be used to illustrate the trade-offs associated with alternative environmental and economic policies in the context of dynamic stakeholder values. ReVA relies heavily on the use of geographic information system technologies and quantitative integration and assessment methods to develop useful measures of a suite of decision-criteria for decision-makers at multiple scales. The SAB Panel held several meetings to discuss and draft its advisory as announced in Federal Register notices published on October 13, 2004 (69 FR 60864), and March 24, 2005 (70 FR 15084). These notices can be found on the SAB Web site at: http://www.epa.gov/sab/panels/reva_rev_panel.htm.

The SAB is now conducting a quality review of the Panel's draft advisory report. The purpose of the QRC is to determine whether: (i) The original charge questions to the SAB review panel have been adequately addressed, (ii) the report is clear and logical, and (iii) any conclusions drawn, or recommendations provided, are supported by the body of information in the advisory report. The outcome of the QRC review will be referred to the SAB for action during the Board's final public review of the draft report.

Procedures for Providing Public Comment: The SAB Staff Office accepts written public comments of any length, and will accommodate oral public comments whenever possible. The SAB Staff Office expects that public statements at the SAB Quality Review Committee review of the Draft Advisory Report on EPA's Regional Vulnerability Assessment (ReVA) Program will not repeat previously submitted oral or written statements. Oral Comments: Requests to provide oral comments must be in writing (e-mail or fax) and received by Mr. Miller no later than September 1, 2005, to reserve time on the September 8, 2005, agenda. For teleconferences, opportunities for oral comment will be limited to no more than five minutes per speaker. Written Comments: Written comments should be received in the SAB Staff Office by the date specified above so that the comments may be made available to the committee for their consideration. Comments should be supplied to the DFO at the address/contact information above in the following formats: one hard copy with original signature, and one electronic copy via e-mail (acceptable file format: Adobe Acrobat, WordPerfect, Word, or Rich Text files in IBM-PC/Windows 98/2000/XP format).

Meeting Accommodations: Individuals requiring special accommodation to access these meetings, should contact the DFO at least five business days prior to the meeting so that appropriate arrangements can be made.

Dated: August 12, 2005.
Anthony Maciorowski,
Acting Director, EPA Science Advisory Board Staff Office.

[FR Doc. 05-16491 Filed 8-18-05; 8:45 am]

BILLING CODE 6560-50-P